DEPARTMENT OF HOUSING AND URBAN DEVELOPMENT

[Docket No. FR-4907-N-31]

Notice of Proposed Information Collection: Comment Request; Annual Adjustment Factor (AAF) Rent Income

AGENCY: Office of the Assistant Secretary for Housing,—Federal Housing Commissioner, HUD.

ACTION: Notice.

SUMMARY: The proposed information collection requirement described below will be submitted to the Office of Management and Budget (OMB) for review, as required by the Paperwork Reduction Act. The Department is soliciting public comments on the subject proposal.

DATES: November 22, 2004.

ADDRESSES: Interested persons are invited to submit comments regarding this proposal. Comments should refer to the proposal by name and/or OMB Control Number and should be sent to: Wayne Eddins, Reports Management Officer, Department of Housing and Urban Development, 451 7th Street, SW., L'Enfant Building, Room 8202, Washington, DC 20410.

FOR FURTHER INFORMATION CONTACT: Peter Giaquinto, Office of Housing Programs and Grant Administration, Department of Housing and Urban Development, 451 7th Street, SW., Washington, DC 20410, telephone number (202) 708-2866 ext. 2479 (this is not a toll-free number), for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of the information on those who are to respond; including the use of appropriate automated collection techniques or other forms of information technology, e.g., permitting electronic submission of responses.

Title of Proposal: Annual Adjustment Factor (AAF) Rent Increase Requirements.

OMB Control Number, if applicable: 2502-0507.

Description of the need for the information and proposed use: On September 28, 1994, Congress enacted the Housing Appropriations Act that authorized HUD's spending authority for Fiscal Year 1995. Among the many measures developed in the bill, emphasis was placed on utilizing the mechanism in the Section 8 Housing Assistance Payment (HAP) contract language that permits an analysis on the reasonableness of the Annual Adjustment Factor (AAF) formula as it's applied to each project unit type. Under this law, review of the AAF under the Overall Limitation clause of the HAP contract would apply only to Section 8 New Construction and Substantial Rehabilitation properties where Section 8 rent levels for a unit type presently exceed the published existing housing fair market rents (FMR's). For Section 8 New Construction and Substantial Rehabilitation properties where rent levels for particular unit type do not exceed the existing AFMR and for all other Section 8 contract types without regard for current rent level, review under the overall-limitation clause of the contract would not occur and the method of rent adjustment would be the appropriately published AAF.

Agency form numbers, if applicable: HUD 92273-S8.

Estimation of the total number of hours needed to prepare the information collection including number of respondents, frequency of response, and hours of response: The number of respondents is 3,000, the frequency of responses is annual, the estimated time to complete response is 1.50 hours, and the total burden hours requested is 4,950.

Status of the proposed information collection: Extension of a previously approved collection for which approval has expired,

Authority: The Paperwork Reduction Act of 1995, 44 U.S.C., Chapter 35, as amended.

Dated: September 15, 2004.
Sean G. Cassidy,
General Deputy Assistant Secretary for Housing Deputy Federal Housing Commissioner.

[FR Doc. 04-21332 Filed 9-22-04; 8:45 am]

BILLING CODE 4210-27-M